DEPARTMENT OF JUSTICE

National Institute of Justice

[OMB Number 1121-NEW]

Agency Information Collection Activities: Proposed New Information Collection Activity; Comment Request, Proposed Study Entitled “Tribal Youth Victimization Methods Study”

AGENCY: National Institute of Justice, U.S. Department of Justice.

ACTION: 30-Day notice.

SUMMARY: The Department of Justice (DOJ), Office of Justice Programs, National Institute of Justice, will be submitting the following information collection request to the Office of Management and Budget (OMB) for review and approval in accordance with the Paperwork Reduction Act of 1995.

DATES: Comments are encouraged and will be accepted for an additional 30 days until August 11, 2017.

FOR FURTHER INFORMATION CONTACT: Written comments and/or suggestions regarding the items contained in this notice, especially the estimated public burden and associated response time, should be directed to Christine Crossland, National Institute of Justice, Office of Research and Evaluation, 810 Seventh Street NW., Washington, DC 20531 (overnight 20001) or via email at christine.crossland@ojp.usdoj.gov. Written comments and/or suggestions can also be sent to the Office of Management and Budget, Office of Information and Regulatory Affairs, Attention Department of Justice Desk Officer, Washington, DC 20503 or sent to OIRA_submissions@omb.eop.gov.

SUPPLEMENTARY INFORMATION: This process is conducted in accordance with 5 CFR 1320.10. Written comments and suggestions from the public and affected agencies concerning the proposed collection of information are encouraged. Your comments should address one or more of the following four points:

—Evaluate whether the proposed collection of information is necessary for the proper performance of the functions of the National Institute of Justice, including whether the information will have practical utility;

—Evaluate the accuracy of the agency's estimate of the burden of the proposed collection of information, including the validity of the methodology and assumptions used;

—Evaluate whether, and if so how, the quality, utility, and clarity of the information to be collected can be enhanced; and

—Minimize the burden of the collection of information on those who are to respond, including through the use of appropriate automated, electronic, mechanical, or other technological collection techniques or other forms of information technology, e.g., permitting electronic submission of responses.

Overview of This Information Collection

1. Type of Information Collection: Survey development; Cognitive testing; Pilot testing of survey.

2. The Title of the Form/Collection: Tribal Youth Victimization Methods Study.

3. The agency form number, if any, and the applicable component of the Department sponsoring the collection: The applicable component within the U.S. Department of Justice is the National Institute of Justice in the Office of Justice Programs.

4. Affected public who will be asked or required to respond, as well as a brief abstract: There has never been a national study of tribal youth regarding their victimization experiences that provides reliable, valid estimates of the scope of the problem. As a result, the incidence, prevalence, and nature of victimization experienced by American Indian and Alaska Native youth living in tribal communities is unknown. As a result, NIJ, in partnership with the Office of Juvenile Justice and Delinquency Prevention and the Office for Victims of Crime has funded this methods study that involves developing and testing a survey instrument, testing different modes of administration that can effectively assess exposure to violence and victimization, and determining the feasibility of using these procedures in tribal communities and settings.

The sample includes tribal youth 12 to 20 years of age. Cognitive testing will be conducted in four tribal settings with between 12-15 youth at each site. The pilot test involves the use of at least two but no more than three different modes of administration modes [e.g., face-to-face interviews, self-administered questionnaire in paper and pencil format, audio computer assisted self-administered interviews (required), computer assisted telephone interviews]. The target sample is 375 completed interviews from three tribal settings (one in Alaska and two in the lower 48).

Among the key outcomes that will be examined are the response and refusal rates, missing data, interview length, willingness to disclose sensitive information, respondent comfort, cost, ability to provide assistance to respondents, and the ease and adequacy of the human subjects' protocol.

5. An estimate of the total number of respondents and the amount of time estimated for an average respondent to respond: The estimated range of burden for respondents participating in the cognitive interview is 90 minutes. Approximately 48 youth will be recruited to complete a cognitive interview. The estimated range of burden for respondents completing the survey in the pilot phase is expected to be 60 minutes for completion. The following factors were considered when creating the burden estimate: The estimated total number of sites (i.e., 4 cognitive sites and 3 pilot sites), respondents (i.e., 48 cognitive interviews and 375 pilot interviews for a total of 423 respondents), and parental and youth informed consent procedures for each phase.

6. An estimate of the total public burden (in hours) associated with the collection: The estimated public burden associated with this collection is 447 hours. It is estimated that each of the cognitive interviews will take 90 minutes to complete (48 respondents × 1.5 hour = 72 hours). Lastly, it is estimated that each pilot survey will take 60 minutes to complete (375 respondents × 1 hour = 375 hours). We estimate a 12-month data collection period, with all cognitive and pilot testing completed in one year.

If additional information is required contact: Melody Braswell, Department Clearance Officer, United States Department of Justice, Justice Management Division, Policy and Planning Staff, Two Constitution Square, 145 N Street NE., 3E.405A, Washington, DC 20530.

Dated: July 6, 2017.
Melody Braswell,
Department Clearance Officer for PRA, U.S. Department of Justice.

[FR Doc. 2017-14529 Filed 7-11-17; 8:45 am]

BILLING CODE 4410-18-P